DEPARTMENT OF COMMERCE

National Oceanic and Atmospheric Administration

50 CFR Part 600

[Docket No. 071001548-7287-02]

RIN 0648-AW10

Marine Recreational Fisheries of the United States; National Saltwater Angler Registry Program

AGENCY: National Marine Fisheries Service (NMFS), National Oceanic and Atmospheric Administration (NOAA), Commerce.

ACTION: Proposed rule; extension of comment period.

SUMMARY: NMFS extends the comment period on the proposed rule to establish the National Saltwater Angler Registry Program. NMFS has received a request from the Gulf of Mexico Fishery Management Council to extend the deadline beyond its current 60-day comment period until a date following the Council's August 11-15 meeting. The extension of the comment period for ten days will allow the Council to adopt comments during its meeting and to submit them before the comment period closes, and will allow other interested parties additional time to submit comments. The comment deadline is extended from August 11, 2008, to August 21, 2008.

DATES: Comments must be received on or before August 21, 2008.

ADDRESSES: You may submit comments, identified by RIN 0648-AW10, by any of the following methods:

• Electronic submissions: Submit all electronic public comments via the Federal eRulemaking Portal http://www.regulations.gov

• Fax: 301-713-1875, Attn: Gordon Colvin.

• Mail: John Boreman, Director, Office of Science and Technology, NMFS, 1315 East-West Highway, Silver Spring, MD 20910, Attn: Gordon Colvin.

Instructions: All comments received are a part of the public record and will generally be posted to http://www.regulations.gov without change. All personal identifying information (for example, name, address, etc.) voluntarily submitted by the commenter may be publicly accessible. Do not submit confidential business information or otherwise sensitive or protected information. NMFS will accept anonymous comments (enter N/A in the required fields, if you wish to remain anonymous). Attachments to electronic comments will be accepted in Microsoft Word, Excel, WordPerfect, or Adobe PDF file formats only.

FOR FURTHER INFORMATION CONTACT: Gordon Colvin, phone: 301-713-2367; fax: 301-713-1875; or e-mail: gordon.colvin@noaa.gov.

SUPPLEMENTARY INFORMATION: A proposed rule to implement the National Saltwater Angler Registry Program was published on June 12, 2008 (73 FR 33381). The comment deadline established in the proposed rule was August 11, 2008. Subsequently, NMFS received a request from the Gulf of Mexico Fishery Management Council to extend the comment period until after the Council's scheduled August 8 to 11 meeting. The comment period is being extended for ten days until August 21, 2008, to accommodate the request of the Council, and to provide additional time for other interested parties to submit comments.

Authority: Authority: 16 U.S.C. 1881.

Dated: August 4, 2008.
John Oliver
Deputy Assistant Administrator for Operations, National Marine Fisheries Service.

[FR Doc. E8-18408 Filed 8-8-08; 8:45 am]

BILLING CODE 3510-22-S